DEPARTMENT OF TRANSPORTATION

Federal Aviation Administration

14 CFR Part 39

[Docket No. 2000-NM-80-AD; Amendment 39-12089; AD 2001-02-05]

RIN 2120-AA64

Airworthiness Directives; CL-604 Variant of Bombardier Model Canadair CL-600-2B16 Series Airplanes Modified in Accordance With Supplemental Type Certificate SA8060NM-D, SA8072NM-D, or SA8086NM-D

AGENCY: Federal Aviation Administration, DOT.

ACTION: Final rule.

SUMMARY: This amendment supersedes an existing airworthiness directive (AD), applicable to Model CL-604 variant of Bombardier Model Canadair CL-600-2B16 series airplanes modified in accordance with certain Supplemental Type Certificates, that currently requires that the fuel service panel maintenance light on the fuel service panel be disconnected. This amendment requires modification of the wiring of the fuel port flood light (which is the name given to the fuel service panel maintenance light in the service bulletin that describes the wiring modification). This amendment is prompted by a report indicating that an electrical spark was noted when the fuel cap chain contacted the fuel port flood light housing of the fuel service panel. The actions specified by this AD are intended to prevent electrical sparks from a grounded object from coming into contact with the fuel port flood light housing of the fuel service panel, which could result in a fuel fire due to the proximity of the fuel service panel to the fuel port.

DATES: Effective March 5, 2001.

The incorporation by reference of certain publications listed in the regulations is approved by the Director of the Federal Register as of March 5, 2001.

ADDRESSES: The service information referenced in this AD may be obtained from Bombardier, Inc., Canadair, Aerospace Group, P.O. Box 6087, Station Centreville, Montreal, Quebec H3C 3G9, Canada. This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Abby Malmir, Aerospace Engineer, Systems and Equipment Branch, ANM-130L, FAA, Los Angeles Aircraft Certification Office, 3960 Paramount Boulevard, Lakewood, California 90712-4137; telephone (562) 627-5351; fax (562) 627-5210.

SUPPLEMENTARY INFORMATION: A proposal to amend part 39 of the Federal Aviation Regulations (14 CFR part 39) by superseding AD 2000-01-51, amendment 39-11519 (65 FR 3379, January 21, 2000), which is applicable to Model CL-604 variant of Bombardier Model Canadair CL-600-2B16 series airplanes modified in accordance with certain Supplemental Type Certificates, was published in the Federal Register on October 5, 2000 (65 FR 59383). The action proposed to require modification of the wiring of the fuel port flood light (which is the name given to the fuel service panel maintenance light in the service bulletin that describes the wiring modification).

Comments

Interested persons have been afforded an opportunity to participate in the making of this amendment. No comments were submitted in response to the proposal or the FAA's determination of the cost to the public.

Conclusion

The FAA has determined that air safety and the public interest require the adoption of the rule as proposed.

Cost Impact

There are approximately 22 airplanes of U.S. registry that will be affected by this AD.

The modification required by this AD action will take approximately 2 work hours per airplane to accomplish, at an average labor rate of $60 per work hour. The cost of the parts required for each airplane is minimal. Based on these figures, the cost impact of the requirements of this AD on U.S. operators is estimated to be $2,640, or $120 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11519 (65 FR 3379, January 21, 2000), and by adding a new airworthiness directive (AD), amendment 39-12089, to read as follows:

2001-02-05 Bombardier, Inc. (Formerly Canadair): Amendment 39-12089. Docket 2000-NM-80-AD. Supersedes AD 2000-01-51, Amendment 39-11519.

Applicability: CL-604 Variant of Bombardier Model Canadair CL-600-2B16 series airplanes, modified in accordance with Supplemental Type Certificate SA8060NM-D, SA8072NM-D, or SA8086NM-D.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b)(1) of this AD. The request should include an assessment of the effect of the modification, alteration, or repair on the unsafe condition addressed by this AD; and, if the unsafe condition has not been eliminated, the request should include specific proposed actions to address it.

Compliance: Required as indicated, unless accomplished previously.

To prevent electrical sparks from a grounded object from coming into contact with the fuel port flood light housing of the fuel service panel, which could result in a fuel fire due to the close proximity of the fuel service panel to the fuel port, accomplish the following:

Modification

(a) Within 90 days after the effective date of this AD, modify the wiring of the fuel port flood light in accordance with the Accomplishment Instructions of Bombardier Service Bulletin TUC-33-30-01-1, dated February 1, 2000, or Revision A, dated March 10, 2000.

Alternative Methods of Compliance

(b)(1) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

(2) Alternative methods of compliance, approved previously in accordance with AD 2000-01-51, amendment 39-11519, are approved as alternative methods of compliance with this AD.

Note 2: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The modification shall be done in accordance with Bombardier Service Bulletin TUC-33-30-01-1, dated February 1, 2000; or Bombardier Service Bulletin TUC-33-30-01-1, Revision A, dated March 10, 2000. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on March 5, 2001.

Issued in Renton, Washington, on January 17, 2001.
Dorenda D. Baker,
Acting Manager, Transport Airplane Directorate, Aircraft Certification Service.

[FR Doc. 01-2008 Filed 1-26-01; 8:45 am]

BILLING CODE 4910-13-P